DEPARTMENT OF THE INTERIOR

National Park Service

[NPS-WASO-NAGPRA-16146; PPWOCRADN0-PCU00RP14.R50000]

Notice of Inventory Completion: Illinois State Museum, Springfield, IL

AGENCY: National Park Service, Interior.

ACTION: Notice.

SUMMARY: The Illinois State Museum has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Illinois State Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Illinois State Museum at the address in this notice by August 27, 2014.

ADDRESSES: Dr. Robert E. Warren, Curator of Anthropology, Illinois State Museum, 1011 East Ash Street, Springfield, IL 62703-3500, telephone (217) 524-7903, email warren@museum.state.il.us.

SUPPLEMENTARY INFORMATION: Notice is here given in accordance with the Native American Graves Protection and Repatriation Act (NAGPRA), 25 U.S.C. 3003, of the completion of an inventory of human remains under the control of the Illinois State Museum, Springfield, IL. The human remains were removed from the Crawford Farm archeological site, located on the south bank of the Rock River in Rock Island County, IL.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Illinois State Museum professional staff in consultation with representatives of the Sac & Fox Nation of Missouri in Kansas and Nebraska; Sac & Fox Nation, Oklahoma; and Sac & Fox Tribe of the Mississippi in Iowa.

History and Description of the Remains

Between 1956 and 1958, human remains representing, at minimum, one individual were removed from the Crawford Farm archeological site (11RI81) in Rock Island County, IL, by a group of amateur artifact collectors. The collectors later donated the human remains and other materials removed from the site to the Putnam Museum of History and Natural Science in Davenport, IA. In 1996, the Putnam Museum of History and Natural Science transferred its Crawford Farm collection to the Illinois State Museum in Springfield (Accession 1996-105). This collection includes artifacts, shells, and animal bones from 34 pit features. In 2013, the Illinois State Museum loaned part of its Crawford Farm collection to the Illinois State Archeological Survey in Champaign-Urbana for an analysis of animal remains. During this analysis, one fragmentary human tarsal bone (left cuboid) was discovered in a bag of animal bone from Pit 10. The age and gender of the individual are not known. No known individuals were identified. No associated funerary objects are present.

Based on archeological evidence and historical records, the Crawford Farm site has been identified as the second of several historic Saukenuk villages occupied by Sauk Indians from about A.D. 1790 to 1830. The presence of horse remains in Pit 10 affirms that the human remains found in this feature were associated with the historic Saukenuk village occupation at the site. The human remains are likely Native American because they were associated with a village occupied by as many as 100 lodges of Sauk Indians in the early nineteenth century. Historical records linking Saukenuk village with the Sauk Indian tribe include maps and reports prepared by American explorers and Indian agents. Members of other tribes (Ho-Chunk/Winnebago, Menominee, Ottawa, and Potawatomi) occasionally visited Saukenuk village, but the primary occupants were Sauk and/or Mesquaki (Fox).

Determinations Made by the Illinois State Museum

Officials of the Illinois State Museum have determined that:

• Pursuant to 25 U.S.C. 3001(9), the human remains described in this notice represent the physical remains of one individual of Native American ancestry.

• Pursuant to 25 U.S.C. 3001(2), there is a relationship of shared group identity that can be reasonably traced between the Native American human remains and the Sac & Fox Nation of Missouri in Kansas and Nebraska; Sac & Fox Nation, Oklahoma; and Sac & Fox Tribe of the Mississippi in Iowa.

Additional Requestors and Disposition

Lineal descendants or representatives of any Indian tribe or Native Hawaiian organization not identified in this notice that wish to request transfer of control of these human remains should submit a written request with information in support of the request to Dr. Robert E. Warren, Curator of Anthropology, Illinois State Museum, 1011 East Ash Street, Springfield, IL 62703-3500, telephone (217) 524-7903, email warren@museum.state.il.us, by August 27, 2014. After that date, if no additional requestors have come forward, transfer of control of the human remains to the Sac & Fox Nation of Missouri in Kansas and Nebraska; Sac & Fox Nation, Oklahoma; and Sac & Fox Tribe of the Mississippi in Iowa may proceed.

The Illinois State Museum is responsible for notifying the Sac & Fox Nation of Missouri in Kansas and Nebraska; Sac & Fox Nation, Oklahoma; and Sac & Fox Tribe of the Mississippi in Iowa that this notice has been published.

Dated: July 2, 2014.
David Tarler,
Acting Manager, National NAGPRA Program.

[FR Doc. 2014-17749 Filed 7-25-14; 8:45 am]

BILLING CODE 4312-50-P